COMMISSION ON CIVIL RIGHTS

Agenda and Notice of Public Meeting of the Connecticut Advisory Committee

Notice is hereby given, pursuant to the provisions of the rules and regulations of the U.S. Commission on Civil Rights, that a meeting of the Connecticut Advisory Committee to the Commission will convene at 1:00 p.m. and recess at 10:00 p.m. on Wednesday, May 24, 2000; reconvene at 9:00 a.m. and adjourn at 5:10 p.m. on Thursday, May 25, 2000, at the Bridgeport Holiday Inn, 1070 Main Street, Bridgeport, Connecticut 06604. The Committee will hold a community forum on issues dealing with police-community relations and treatment of minority students in public schools in Bridgeport, Connecticut. Invited panelists include local and Federal officials, civil rights advocates, community leaders and citizens.

Persons desiring additional information, or planning a presentation to the Committee, should contact Committee Chairperson Neil Macy, 860-242-7287, or Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, April 27, 2000.
Lisa M. Kelly,
Special Assistant to the Staff Director, Regional Programs Coordination Unit.

[FR Doc. 00-10947 Filed 5-2-00; 8:45 am]

BILLING CODE 6335-01-P